DEPARTMENT OF TRANSPORTATION

Federal Aviation Administration

14 CFR Part 107

[Docket No. FAA-2001-10999; Amdt. Nos. 107-14 and 108-19]

RIN 2120-AH53

Criminal History Records Checks

Correction

In rule document 01-30282 beginning on page 63474 in the issue of Thursday, December 6, 2001 make the following correction:

§ 107.209 [Corrected]

On page 63483, in the second column, §107.209, in the second column, in the second full paragraph, “(1) Continuing resopnsibilities.” should read, “(l) Continuing responsibilities”.

[FR Doc. C1-30282 Filed 1-24-02; 8:45 am]

BILLING CODE 1505-01-D